DEPARTMENT OF COMMERCE

International Trade Administration

[A-570-967]

Aluminum Extrusions From the People's Republic of China: Final Results of Changed Circumstances Review

AGENCY: Enforcement and Compliance, International Trade Administration, Department of Commerce.

SUMMARY: The Department of Commerce (Commerce) is recalculating the cash deposit rate for certain Chinese exporters to reflect the revised countervailing duty (CVD) export subsidy offsets from the amended final CVD determination.

DATES: Applicable September 10, 2018.

FOR FURTHER INFORMATION CONTACT: Mark Flessner or Erin Kearney, AD/CVD Operations, Office VI, Enforcement and Compliance, International Trade Administration, U.S. Department of Commerce, 1401 Constitution Avenue NW, Washington, DC 20230; telephone: (202) 482-6312 or (202) 482-0167, respectively.

SUPPLEMENTARY INFORMATION:

Background

On July 20, 2018, Commerce published the initiation and preliminary results of its changed circumstances review of the antidumping duty order ¹ on aluminum extrusions from China pursuant to section 751(b) of the Tariff Act of 1930, as amended (the Act) and 19 CFR 351.216 and 351.221(c)(3).² In the Initiation and Preliminary Results, interested parties were provided an opportunity to comment and request a hearing regarding our preliminary finding that the cash deposit rate for the 21 exporters/producers who retain the separate rate assigned in the LTFV investigation should be recalculated to reflect the revised CVD export subsidy offsets from the amended final CVD determination.³ We received no comments from interested parties and no request for a hearing.⁴

¹ See Aluminum Extrusions from the People's Republic of China: Antidumping Duty Order, 76 FR 30650 (May 26, 2011) (the Order).

² See Aluminum Extrusions from the People's Republic of China: Initiation and Preliminary Results of Expedited Changed Circumstances Review, 83 FR 34548 (July 20, 2018) (Initiation and Preliminary Results).

³ Id., 83 FR at 34550-34551; Aluminum Extrusions from the People's Republic of China: Amended Final Affirmative Countervailing Duty Determination Pursuant to Court Decision, 80 FR 69640 (November 10, 2015) (CVD Amended Final Determination).

⁴ On August 15, 2018, the Aluminum Extrusions Fair Trade Committee (the petitioner) informed Commerce of minor grammatical errors in certain of the company names listed in Initiation and Preliminary Results. See Memorandum: “Changed Circumstances Review of the Antidumping Duty Order on Aluminum Extrusions from the People's Republic of China: Ex Parte Telephone Conversations,” dated August 30, 2018. We have corrected those errors (and others not pointed out by the petitioner) in these final results.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including brightdip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation. The following aluminum extrusion products are excluded: Aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the Order merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 millimeters (“mm”) or 62 mm, (2) outer diameter of 11.0 mm or 12.7 mm, and (3) wall thickness not exceeding 0.13 mm.

Also excluded from the scope of this Order are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Final Results of Changed Circumstances Review

For the reasons stated in the Initiation and Preliminary Results, and because no comments were submitted by interested parties, Commerce continues to find that changed circumstances exist, and that the appropriate cash deposit rate for the 21 exporters/producers who retain a separate rate assigned in the LTFV investigation should be recalculated to reflect the revised CVD export subsidy offsets from the CVD Amended Final Determination.⁵

⁵ See Memorandum, “Preliminary Export Subsidy Offset Calculation Memorandum,” dated July 16, 2018.

The cash deposit rates for these final results are listed below:

Exporter | Producer | Weighted- average dumping margin (percent) | Cash deposit rate (percent)
Changshu Changsheng Aluminium Products Co., Ltd | Changshu Changsheng Aluminium Products Co., Ltd | 32.79 | 32.51
Cosco (J.M) Aluminium Co., Ltd | Cosco (J.M) Aluminium Co., Ltd./Jiangmen Qunxing Hardware Diecasting Co., Ltd | 32.79 | 32.51
First Union Property Limited | Top-Wok Metal Co., Ltd | 32.79 | 32.51
Foshan Jinlan Non-ferrous Metal Product Co. Ltd | Foshan Jinlan Aluminium Co. Ltd | 32.79 | 32.51
Foshan Sanshui Fenglu Aluminium Co., Ltd | Foshan Sanshui Fenglu Aluminium Co., Ltd | 32.79 | 32.51
Guangdong Hao Mei Aluminium Co., Ltd | Guangdong Hao Mei Aluminium Co., Ltd | 32.79 | 32.51
Guangdong Weiye Aluminium Factory Co., Ltd | Guangdong Weiye Aluminium Factory Co., Ltd | 32.79 | 32.51
Guangdong Xingfa Aluminium Co., Ltd | Guangdong Xingfa Aluminium Co., Ltd | 32.79 | 32.51
Hanwood Enterprises Limited | Pingguo Aluminium Company Limited | 32.79 | 32.51
Honsense Development Company | Kanal Precision Aluminium Product Co., Ltd | 32.79 | 32.51
Innovative Aluminium (Hong Kong) Limited | Taishan Golden Gain Aluminium Products Limited | 32.79 | 32.51
Jiangyin Trust International Inc | Jiangyin Xinhong Doors and Windows Co., Ltd | 32.79 | 32.51
Longkou Donghai Trade Co., Ltd | Shandong Nanshan Aluminum Co., Ltd | 32.79 | 32.51
Ningbo Yili Import and Export Co., Ltd | Zhejiang Anji Xinxiang Aluminum Co., Ltd | 32.79 | 32.51
North China Aluminum Co., Ltd | North China Aluminum Co., Ltd | 32.79 | 32.51
PanAsia Aluminium (China) Limited | PanAsia Aluminium (China) Limited | 32.79 | 32.51
Pingguo Asia Aluminum Co., Ltd | Pingguo Asia Aluminum Co., Ltd | 32.79 | 32.51
Popular Plastics Co., Ltd | Hoi Tat Plastic Mould & Metal Factory | 32.79 | 32.51
Tai-Ao Aluminium (Taishan) Co., Ltd | Tai-Ao Aluminium (Taishan) Co., Ltd | 32.79 | 32.51
Tianjin Ruixin Electric Heat Transmission Technology Co., Ltd | Tianjin Ruixin Electric Heat Transmission Technology Co., Ltd | 32.79 | 32.51
Zhejiang Yongkang Listar Aluminium Industry Co., Ltd | Zhejiang Yongkang Listar Aluminium Industry Co., Ltd | 32.79 | 32.51

Cash Deposit Requirements

The following cash deposit requirements will be effective upon publication of the final results of this changed circumstances review, and apply to all shipments of the subject merchandise from China entered, or withdrawn from warehouse, for consumption on or after the publication date, as provided for by 19 CFR 351.221(b)(7): For the 21 producers and/or exporters listed above that received a separate rate in the LTFV investigation and continue to retain that separate rate, the cash deposit rate will be the producer/exporter-specific rate listed above. These deposit requirements, when imposed, shall remain in effect until further notice.

We are issuing and publishing this notice of final results in accordance with sections 751(b)(1) and 777(i)(1) and (2) of the Act and 19 CFR 351.216(e) and 351.221(c)(3).

Dated: September 4, 2018.
Gary Taverman,
Deputy Assistant Secretary for Antidumping and Countervailing Duty Operations, performing the non-exclusive functions and duties of the Assistant Secretary for Enforcement and Compliance.

[FR Doc. 2018-19571 Filed 9-7-18; 8:45 am]

BILLING CODE 3510-DS-P